DEPARTMENT OF ENERGY

Federal Energy Regulatory Commission

[Docket No. RP03-373-002]

Tuscarora Gas Transmission Company; Notice of Compliance Filing

July 10, 2003.

Take notice that on July 7, 2003, Tuscarora Gas Transmission Company (Tuscarora) tendered for filing as part of its FERC Gas Tariff, Original Volume No. 1, Substitute Seventh Revised Sheet No. 37A, to be effective July 1, 2003.

Tuscarora states that the purpose of this filing is to comply with the Commission's June 25, 2003 order on Tuscarora's initial Order No. 587-R compliance filing. The revised tariff sheet reflects Tuscarora's removal of Standard 4.3.4 from its list of standards incorporated by reference into its tariff.

Tuscarora states that copies of its filing have been mailed to all affected customers and interested state commissions, as well as to all parties on the Commission's official service list in this proceeding.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: July 21, 2003.

Magalie R. Salas,
Secretary.

[FR Doc. 03-18026 Filed 7-16-03; 8:45 am]

BILLING CODE 6717-01-P